OFFICE OF MANAGEMENT AND BUDGET

Public Availability of Fiscal Year 2004 Agency Inventories Under the Federal Activities Inventory Reform Act of 1998 (Public Law 105-270) (“FAIR Act”)

AGENCY: Office of Management and Budget, Executive Office of the President.

ACTION: Notice of public availability of agency inventory of activities that are not inherently governmental and of activities that are inherently governmental.

SUMMARY: In accordance with the FAIR Act, agency inventories of activities that are not inherently governmental are now available to the public from the agencies listed below. The FAIR Act requires that OMB publish an announcement of public availability of agency inventories of activities that are not inherently governmental upon completion of OMB's review and consultation process concerning the content of the agencies' inventory submissions. After review and consultation with OMB, agencies make their inventories available to the public, and these inventories also include activities that are inherently governmental. This is the second release of the FAIR Act inventories for FY 2004. Interested parties who disagree with the agency's initial judgment can challenge the inclusion or the omission of an activity on the list of activities that are not inherently governmental within 30 working days and, if not satisfied with this review, may demand a higher agency review/appeal.

The Office of Federal Procurement Policy has made available a FAIR Act User's Guide through its Internet site: http://www.whitehouse.gov/omb/procurement/fair-index.html. This User's Guide will help interested parties review FY 2004 FAIR Act inventories, and gain access to agency inventories through agency Web site addresses.

Joshua B. Bolten,
Director.

Attachment

Second Fair Act Release FY 2004
Appalachian Regional Commission | Mr. Guy Land, (202) 884-7674; www.arc.gov.
Architectural and Transportation Barriers Compliance Board | Mr. Larry Roffee, (202) 272-0001; www.access-board.gov.
Arlington National Cemetery | Mr. Rory Smith, (703) 607-8561; www.arlingtoncemetery.org.
Barry Goldwater Scholarship Education Foundation | Mr. Gerald Smith, (703) 756-6012; www.act.org/goldwater.
Broadcasting Board of Governors | Mr. Stephen Smith, (202) 203-4588; www.bbg.gov.
Christopher Columbus Fellowship Foundation | Ms. Judith M. Shellenberger, (315) 258-0090; www.whitehouse.gov/omb/procurement/fair_list_nosite.html.
Defense Nuclear Facilities Safety Board | Mr. Kenneth Pusateri, (202) 694-7000; www.dnfsb.gov.
Department of Defense | Mr. Paul Soloman, (703) 602-3666; web.lmi.org/fairnet.
Department of Defense (IG) | Mr. John R. Crane, (703) 604-8324; www.dodig.osd.mil.
Department of Education | Mr. Glenn Perry, (202) 245-6200; www.ed.gov.
Department of Housing and Urban Development | Ms. Janice Blake-Green, (202) 708-0614, x3214; www.hud.gov.
Department of Housing and Urban Development (IG) | Ms. Peggy Dickinson, (202) 708-0614, x8192; www.hudoig.gov.
Department of State | Ms. Valerie Dumas, (703) 516-1506; www.state.gov.
Department of Treasury | Mr. Jim Sullivan, (202) 622-9395; www.treas.gov/fair.
Environmental Protection Agency | Ms. Melanie Gooden (202) 566-2222; www.epa.gov.
Environmental Protection Agency (IG) | Mr. Michael J. Binder (202) 566-2617; www.epa.gov/oig.
Equal Employment Opportunity Commission | Mr. Jeffrey Smith, (202) 663-4200; www.eeoc.gov.
Farm Credit Administration | Mr. Philip Shebest, (703) 883-4146; www.fca.gov.
Federal Maritime Commission | Mr. Bruce Dombrowski, (202) 523-5800; www.fmc.gov.
Federal Mediation and Conciliation Service | Mr. Dan Ellerman, (202) 606-5460; www.fmcs.gov.
Federal Trade Commission | Ms. Darlene Cossette, (202) 326-3255; www.ftc.gov.
General Services Administration | Mr. Paul Boyle, (202) 501-0324; www.gsa.gov.
Harry S. Truman Scholarship Foundation | Ms. Tara Kneller, (202) 395-7434; www.truman.gov.
James Madison Memorial Fellowship Foundation | Mr. Steve Weiss, (202) 653-6109; www.jamesmadison.com.
National Archives and Records Administration | Ms. Lori Lisowski, (301) 837-1850; www.nara.gov.
National Archives and Records Administration (IG) | Mr. James Springs, (301) 837-3018; www.archives.gov/about_us/office_of_the_inspector_general/index.html.
National Capital Planning Commission | Mr. Barry Socks, (202) 482-7209; www.ncpc.gov.
National Endowment for the Art | Mr. Ned Read, (202) 682-5782; www.arts.gov.
National Endowment for the Humanities | Mr. Barry Maynes, (202) 606-8233; www.neh.gov.
National Mediation Board | Ms. Grace Ann Leach, (202) 692- 5010; www.nmb.gov.
Nuclear Waste Technical Review Board | Ms. Joyce Dory, (703) 235-4473; www.nwtrb.gov.
Office of Personnel Management | Mr. Ronald Flom, (202) 606-2200; www.opm.gov.
Office of the Special Counsel | Ms. Sharyn Danch, (202) 254-3600; www.osc.gov.
Office of the U.S. Trade Representative | Ms. Susan Buck, (202) 395-9412; www.ustr.gov.
Peace Corps | Ms. Janice Hagginbothom, (202) 692-1655; www.peacecorps.gov.
Small Business Administration | Mr. Robert J. Moffitt, (202) 205-6610; www.sba.gov/fair.
Small Business Administration (IG) | Ms. Robert Fisher, (202) 205-6583; www.sba.gov/ig.
U.S. Patent and Trademark Office | Mr. Aprie Balian, (703) 305-9357; www.uspto.gov.
U.S. Trade Development Agency | Ms. Barbara Bradford, (703) 875-4357; www.tda.gov

[FR Doc. 05-938 Filed 1-14-05; 8:45 am]

BILLING CODE 3110-01-P